DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). The Secretary also announces an extension of the sunset period for two tests with National Reporting System for Adult Education (NRS) approvals that expired on February 5, 2025, and September 7, 2024. The sunset period for these tests is extended to June 30, 2026. This notice relates to the approved information collections under OMB control numbers 1830-0027 and 1830-0567.

FOR FURTHER INFORMATION CONTACT: John LeMaster, Department of Education, 400 Maryland Avenue SW, Washington, DC 20202. Telephone: (202) 987-0903. Email: John.LeMaster@ed.gov.

If you are deaf, hard of hearing, or have a speech disability and wish to access telecommunications relay services, please dial 7-1-1.

SUPPLEMENTARY INFORMATION:

Test Determined To Be Suitable for Use in the NRS for a Seven-Year Period From the Date of Publication of This Notice

The Secretary has determined that the following test is suitable for use in Literacy/English Language Arts at all Adult Basic Education (ABE) levels of the NRS for a period of seven years from the date of publication of this notice:

Comprehensive Adult Student Assessment System (CASAS) Reading GOALS 2 Series. Forms 921/922, 923/924, 925/926, 927/928, and 929/930 are approved for use on paper and through a computer-based delivery format. Publisher: CASAS, 5151 Murphy Canyon Road, Suite 220, San Diego, CA 92123-4339. Telephone: (800) 255-1036. Internet: www.casas.org/.

Test With NRS Approval That Expired on February 5, 2025, Previously Allowed for Use in the NRS During a Sunset Period Ending on June 30, 2025, and Now Allowed for Use During an Extended Sunset Period Ending on June 30, 2026

The Secretary has determined that the following test is suitable for use in Literacy/English Language Arts at all ABE levels of the NRS during a sunset period ending on June 30, 2026:

Comprehensive Adult Student Assessment System (CASAS) Reading GOALS Series. Forms 901/902, 903/904, 905/906, and 907/908 are approved for use on paper and through a computer-based delivery format. Publisher: CASAS, 5151 Murphy Canyon Road, Suite 220, San Diego, CA 92123-4339. Telephone: (800) 255-1036. Internet: www.casas.org/.

Test With NRS Approval That Expired on September 7, 2024, Previously Allowed for Use in the NRS During a Sunset Period Ending on June 30, 2025, and Now Allowed for Use During an Extended Sunset Period Ending on June 30, 2026

The Secretary has determined that the following test is suitable for use in Literacy/English Language Arts and Mathematics at all ABE levels of the NRS during a sunset period ending on June 30, 2026:

Tests of Adult Basic Education (TABE 11/12). Forms 11 and 12 are approved for use on paper and through a computer-based delivery format. Publisher: Data Recognition Corporation—CTB, 13490 Bass Lake Road, Maple Grove, MN 55311. Telephone: 800-538-9547. Internet: www.tabetest.com.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Program Authority: 29 U.S.C. 3292.

OMB Control Numbers: 1830-0027, 1830-0567.

Nicholas Moore,
Deputy Assistant Secretary and Acting Assistant Secretary for Career, Technical, and Adult Education.

[FR Doc. 2025-07974 Filed 5-7-25; 8:45 am]

BILLING CODE 4000-01-P